OFFICE OF PERSONNEL MANAGEMENT

5 CFR Part 990

RIN 3206-AJ97

General and Miscellaneous

AGENCY: Office of Personnel Management.

ACTION: Final rule.

SUMMARY: The Office of Personnel Management (OPM) is issuing final regulations to remove its regulation concerning the submission of claims by preference eligibles to OPM and the recognition of representatives by OPM. The purpose of this revision to part 990 is to eliminate the part because it is obsolete. OPM no longer adjudicates claims or appeals under sections 3502, 3503, or 7701 of title 5, United States Code. That appellate function was vested in the Merit Systems Protection Board, created by the Civil Service Reform Act of 1978. Accordingly, there is no basis to retain the provisions of part 990 in the Code of Federal Regulations.

DATES: Effective Date: August 13, 2007.

FOR FURTHER INFORMATION CONTACT: Hakeem Basheerud-Deen at (202) 606-1434, Fax: (202) 606-2329, TTY: (202) 418-3134, or e-mail: hakeem.basheerud-deen@opm.gov.

SUPPLEMENTARY INFORMATION: On May 27, 2003, OPM issued proposed regulations at Federal Register 68 FR 28806 to remove and reserve part 990 from the Code of Federal Regulations. No comments were received and the proposed rule is adopted as a final rule without change.

Regulatory Flexibility Act

I certify that this regulation will not have a significant economic impact on a substantial number of small entities because it affects only certain Federal employees.

Executive Order 12866, Regulatory Review

This rule has been reviewed by the Office of Management and Budget in accordance with Executive Order 12866.

List of Subjects in 5 CFR Part 990

Administrative practice and procedure, Claims, Government employees, Veterans.

U.S. Office of Personnel Management.
Linda M. Springer,
Director.

Under the authority of 5 CFR chapter I, OPM is removing and reserving 5 CFR part 990 as follows:

PART 990—[REMOVED AND RESERVED]

1. Part 990 is removed and reserved.

[FR Doc. E7-15662 Filed 8-10-07; 8:45 am]

BILLING CODE 6325-39-P